DEPARTMENT OF HEALTH AND HUMAN SERVICES

Indian Health Service

Organization, Functions, and Delegations of Authority; Part G; Indian Health Service Headquarters, Office of the Director

AGENCY: Indian Health Service, Department of Health and Human Services.

ACTION: Final notice.

SUMMARY: Part G of the Statement of Organization, Functions, and Delegations of Authority of the Department of Health and Human Services (HHS) is hereby amended to reflect a reorganization of the Indian Health Service (IHS). The purpose of this reorganization is to revise the current approved structure for the IHS, Office of the Director, Intergovernmental Affairs functions in Chapter GA (GAA-GAC), as provided for herein.

SUPPLEMENTARY INFORMATION: The IHS is an Operating Division within the Department of Health and Human Services (HHS) and is under the leadership and direction of a Director who is directly responsible to the Secretary of Health and Human Services. The IHS Headquarters is reorganizing the following major component: Office of the Director, under the Deputy Director for Intergovernmental Affairs.

Part G of the Statement of Organization, Functions, and Delegations of Authority was most recently amended at 89 FR 61126, July 30, 2024.

Authority: 44 U.S.C. 3101.

Diversity Management and Equal Employment Opportunity Staff (GA3)

(1) Administers the Indian Health Service (IHS) equal employment opportunity, civil rights, and affirmative action and Alternative Dispute Resolution programs, in accordance with applicable laws, regulations, and the Department of Health and Human Services (HHS) policies; (2) plans and oversees the implementation of IHS affirmative employment and special emphasis programs in accordance with applicable laws, regulations and HHS policies; (3) reviews data and advises IHS managers of possible discriminatory trends; (4) ensures immediate implementation of required actions on complaints of alleged sexual harassment or discrimination; (5) decides on accepting, for investigation, or dismissing discrimination complaints and evaluates accepted complaints for procedural sufficiency and investigates and resolves complaints; (6) evaluates accepted formal complaints of discrimination for procedural sufficiency and adjudicates and resolves complaints; and (7) develops/administers equal employment opportunity education and training programs for IHS managers, supervisors, counselors, and employees.

Office of Indian Self-Determination and Self-Governance (GAA)

(1) Provides leadership and implementation of legislation and authorities under Title I and Title V of Indian Self-Determination and Education Assistance Act (ISDEAA), excluding construction authorities; (2) provides oversight and monitoring of Agency compliance with ISDEAA policies, administrative procedures and guidelines; (3) advises the IHS Director, on activities and issues related to ISDEAA; (4) works in partnership with Tribal governments and the Tribal Self-Governance Advisory Committee (TSGAC) in the development and recommendations of policies, administrative procedures, and guidelines of ISDEAA activities for the implementation of the Tribal Self-Governance Program (TSGP); (5) provides Agency leadership of national TSGAC meetings for Tribal governments on the TSGP; (6) coordinates and provides technical assistance Tribal governments and Tribal organizations, as outlined in the ISDEAA; (7) coordinates the oversight and monitoring funding agreements and annual funding agreements at all levels; (8) serves as the principal IHS office for the development of presentations and trainings on the ISDEAA; (9) participates in meetings between Tribal delegations, Tribal governments, and the IHS Director; (10) develops executive management reports, reports to Congress, and conducts data analysis on ISDEAA activities; (11) provides ISDEAA leadership, assistance, and support to IHS Area offices and program offices, including on issues related to Contract Support Costs (CSC); and (12) participates in cross-cutting issues and processes including, but not limited to, emergency preparedness/security, budget formulation, ISDEAA, Tribal shares computations, and resolution of audit findings related to Tribal health programs.

Division of Indian Self-Determination and Education Assistance Act Programs (GAA1)

(1) Provides Agency leadership and direction for all Agency negotiators on ISDEAA Title I and Title V contracts and compacts and annual funding agreements; (2) provides Agency-wide assistance and support to Agency negotiators for ISDEAA Title I and Title V negotiations; (3) provides policy and procedural guidance to Agency negotiators in support of ISDEAA negotiation activities; (4) responsible for education and technical assistance, as appropriate, to Tribal personnel in the preparation, negotiation, and payment of ISDEAA contracts and compacts; (5) performs monitoring and oversight of all ISDEAA program activities and funding; (6) conducts performance reviews of ISDEAA program activities; (7) develops programmatic responses regarding ISDEAA to oversight entities such as Office of Inspector General and Government Accountability Office in coordination with the IHS Office of Quality; and (8) coordinates and leads internal Agency review with the Headquarters leadership team on potential Title I, full or partial, Declinations Reassumptions and Title V Final Offer Review Group activities.

Division of Tribal Payments (GAA1A)

(1) Collaborates with the Office of Finance and Accounting (OFA) to review and ensure ISDEAA payment documents are in compliance with policies and procedures; (2) monitors, tracks and conducts financial management activities for ISDEAA payments; (3) develops Agency Programs, Services, Functions, and Activities policy, manual development and monitoring activities; (4) provides support to OFA and Agency negotiators on oversight and monitoring activities of single audits of ISDEAA programs to ensure compliance with laws and regulations; (5) provides Agency oversight and technical assistance to Agency negotiators regarding Tribal payments; (6) coordinates with the OFA and leads the management and oversight of financial management tools and subsidiary financial systems to make payments to Tribal Health Programs; (7) conducts periodic oversight reviews on the Agency Tribal payments process; and (8) works closely with the OFA to complete payments to Tribes for ISDEAA contracts and compacts.

Training and Technical Assistance Staff (GAA1B)

(1) Provides leadership in the development, planning and delivery of training and technical assistance (T/TA) through engagement with Federal, Tribal and Tribal Organization (T/TO) partners; (2) develops and manages Agency-wide, standardized training curriculum for ISDEAA; (3) conducts data monitoring and tracking for all T/TA activities, ensuring accurate measure reporting and benchmarking while enhancing management of T/TA assets; (4) researches issues and develops learning objectives to resolve and foster approaches to ISDEAA related issues; (5) coordinates Agency expertise and training resources to address Tribal issues and technical support for T/TO's; (6) collaborates with T/TOs to build upon existing strengths and knowledge; (7) develop ISDEAA compliance tools to conduct periodic program level oversight reviews; and (8) coordinates T/TA related information technology investments to develop internal T/TA resource database, Agency T/TA resource page, and a central T/TA learning management system.

Division of Contract Support Costs (GAA2)

(1) Provides a uniform and equitable system of determining, tracking and reconciling CSC funds for new, expanded and ongoing ISDEAA compacts and contracts; (2) provides coordination in the administration of CSC activities across the Agency; (3) provides Agency leadership guidance in the development and implementation of Agency CSC policies and procedures; (4) provides technical assistance and education to Federal, and/or T/TO's in the preparation, negotiation, determination, payment and reconciliation of CSC funding; (5) provides Agency leadership for the IHS/Tribal CSC Advisory Committee activities; (6) in coordination through OFA, participates in the budget justification process and provides all requirements for CSC funding levels; (7) maintains systems to monitor all CSC funds paid to T/TO's; and (8) develops executive management reports, reports to Congress and data analysis on CSC activities.

Division of Tribal Leasing (GAA3)

(1) Provides Agency leadership in the administration of section 105(l) of the ISDEAA, 25 U.S.C. 5324(l), and the implementing regulations at 25 CFR part 900, subpart H, also known as “section 105(l) leases” or “Tribal leases;” (2) develops 105(l) policies and procedures for Agency negotiations, implementation and administration for the Agency 105(l) program; (3) responsible for education and technical assistance of the 105(l) program T/TO and Agency negotiators in the preparation, negotiation, determination, and payments; (4) provides oversight of 105(l) program activities and funding; (5) develops oversight and monitoring activities for periodic program activities and performance reviews of 105(l) program; (6) in coordination with OFA, develops budget justification for 105(l) program funding requests; (7) communicates with the Department of Interior, Bureau of Indian Affairs on 105(l) lease proposals and associated Agency policies; (8) in coordination through OFA, participates in the budget justification process and provides all requirements for 105(l) funding levels; (9) maintains systems to monitor all 105(l) funds paid to T/TO's; and (10) develops executive management reports, reports to Congress and data analysis on 105(l) activities.

Office of Tribal and Urban Affairs (GAB)

(1) Provides Agency leadership concerning policy development, program management, resource allocation related to Direct Service Tribes (DST) Urban Indian Organization (UIO) oversight activities; (2) advises the IHS Director and Deputy Director for Intergovernmental Affairs on Tribal, Indian Self-Determination and Education Assistance Act and Urban program; (3) serves as the principal Agency liaison with T/TO, national, regional and Area Tribal consortiums, UIOs; (4) serves as the primary lead for the Direct Service Tribes Advisory Committee (DSTAC) by coordination of DSTAC meetings to provide a forum for the DST leaders to express their concerns and primary issues relating to direct health care delivery by the IHS; (5) coordinates and facilitates meetings between Tribal delegations and the Office of the Director; (6) maintain a central contact information database on Tribal governments; (7) works with program offices to obtain information regarding IHS Tribal advisory committee activities including quarterly and annual meetings and committee representative listings; (8) serves as the IHS liaison to the HHS Secretary's Tribal Advisory Committee (STAC); (9) participates in policy development on issues concerning newly federally recognized and restored Tribes; (10) maintains a central database of contact information for Tribal leaders, health director's health programs, etc.; and (11) participates in cross-cutting issues and processes including, but not limited to, emergency preparedness/security, budget formulation, and resolution of audit findings related to program activities.

Division of Tribal Coordination (GAB1)

(1) Provides Agency leadership and coordination for DSTs as required by 25 U.S.C. 1663; (2) directs a national program and providing leadership and advocacy in the development of health policy, program management, budget formulation, resource allocation, and delegation support for DSTs; (3) provides service-wide leadership, guidance and support for DSTs to include strategic planning and program evaluation; (4) ensures maximum flexibility to DST health and related support systems for Indian beneficiaries; (5) serves as the focal point for consultation and participation between DSTs, T/TO's and the Service in the development of Service policy; (6) provides Agency leadership and coordination for Tribal advisory group activities including membership listings, developing policies and operating procedures and coordination; (7) holds biannual consultations with DSTs in appropriate locations to gather information and aid in the development of health policy; (8) coordinates and conducts Tribal Consultation activities in accordance with Presidential Memorandum on Uniform Standards for Tribal Consultation, including policy development and serves as central Agency point of contact for Tribal Consultation matters; (9) manages and coordinates the review and communicating throughout the Agency executive orders that affect T/TOs; (10) ensures dissemination of annual reports for Tribal advisory committees; and (11) serves as central Agency point of contact for Tribal delegations including scheduling, planning, coordination, correspondence and tracking of issues.

Tribal Resources Staff (GAB1A)

(1) Administers a national statutorily mandated grant program designed to assist Tribal governments and Tribal organizations in beginning and/or expanding ISDEAA, Public Law 93-638, Title I and Title V, as amended; (2) provides leadership and management of Tribal Management Grant (TMG) and the Tribal Self-Governance Grant Program (TSGGP) funding; (3) participates in the development of budget formulation and justification requests for TMG resources; (4) provides leadership communication to T/TOs for TMG funding opportunities; (5) conducts program analysis of TMGs; (6) coordinates the review, evaluation and eligibility determinations of proposals from Tribal governments and Tribal organizations for ISDEAA planning, negotiation and management grants and recommendations to the IHS Director; and (7) develops executive management reports, reports to Congress and analysis on TMG/TSGGP activities.

Public Engagement Staff (GAB1B)

(1) Communicates with T/TOs and UIOs regarding relevant Agency information on programs and services that impact Tribal communities; (2) coordinates the dissemination of information from the Chief Medical Officer (CMO) regarding critical health issues that impact Tribal communities; (3) coordinates forums for discussion with T/TOs and UIOs with subject matter experts to develops a knowledge base of critical information for public consumption; (4) develop and leads townhall engagements for IHS customers; and (5) works with Public Affairs Staff to develop campaign forums for customer engagement.

Division of Urban Indian Affairs (GAB2)

(1) Advises the IHS Director and Deputy Director for Intergovernmental Affairs on activities and issues related to the implementation of Title V of the Indian Health Care Improvement Act, codified as amended in 25 U.S.C. 1651-1660i; (2) develops policies, administrative procedures, and guidelines for UIO health programs and organizations services and activities; (3) shares relevant Agency information for UIOs regarding pertinent IHS health policies affecting UIOs, in coordination with the IHS, CMO; (4) ensures that confer with UIOs occurs to the extent allowed by applicable law; (5) provide technical assistance and program support to Urban Indian health programs and organizations in managing health programs; (6) provides leadership and coordinates with other public and private agencies and organizations on program support for Urban Indian health programs and organizations; (7) advises the IHS Director on Agency compliance with Urban Indian health program policies, administrative procedures, and guidelines; (8) coordinates Agency communications with Urban Indian health program representatives; (9) participates in cross-cutting UIO issues and processes including, but not limited to emergency preparedness/security, budget formulation, computations and resolution of audit findings as may be needed and appropriate; and (10) administers and maintains a national grant program for UIO grant activities.

Office of External Affairs (GAC)

(1) Builds strategic and trusted relationships with Congress, media outlets, non-governmental entities, philanthropic, community and faith-based organizations; (2) advocates and advances Agency priorities with external outlets; (3) serve as the hub for external entities to work with IHS for the advancement of the Agency's relationship with American Indians and Alaska Natives; (4) coordinates activities between the IHS and the Department of Veterans Affairs (VA); (5) serves as liaison for legislative affairs activities and coordination throughout the Agency; (6) provides executive secretariat support throughout the Agency; and (7) provides public affairs leadership and communications.

Veteran Coordination Support Staff (GAC1)

(1) Coordinates program activities for IHS, Tribes, UIOs, and the VA to serve the health care needs of American Indian and Alaska Native (AI/AN) Veterans; (2) provides Agency coordination and oversight of the IHS/VA memorandum of understanding and operational plan; (3) provides support of the VA advisory workgroups and serves as staff support for the IHS representative on the VA advisory workgroup; (4) serves as Agency liaison for Tribes, Tribal Organizations, and UIOs to enter into VA and other partnerships that improve health outcomes for AI/AN Veterans; and (5) serves as the central point of contact for the VA, Federal agencies, HHS Operating Divisions, and other partners on AI/AN Veteran-related matters and to promote health care for AI/AN Veterans.

Strategic Partnerships Staff (GAC2)

(1) Serves as Agency liaison to enhance communication with local, state, and Tribal governments as well as private sector, profit and not-for profit groups, and national organizations; (2) facilitates and coordinates communication between the IHS and external stakeholders at a high level, for Agency to partnerships to advance IHS initiatives; (3) serves as a central point of contact for other intergovernmental officials and external stakeholders; (4) serves as a liaison between IHS and non-governmental entities; (5) develops Agency strategies to strengthen intergovernmental and non-governmental relationships; (6) researches internal and external stakeholder opportunities for engagement to develop partnerships for IHS, Tribal, and Urban (ITU) health care; and (7) develops annual reports of outcomes of strategic partnership activities.

Legislative Affairs Staff (GAC3)

(1) Serves as the principal advisor to the IHS Director on all legislative and congressional relations matters; (2) advises the IHS Director and other IHS officials on the need for changes in legislation and manages the development of IHS legislative initiatives; (3) serves as the IHS liaison office for congressional and legislative affairs with congressional offices, the HHS, the Office of Management and Budget, the White House, and other Federal agencies; (4) tracks all major legislative proposals in the Congress that would impact Indian health; (5) ensures that the IHS Director and appropriate IHS and HHS officials are briefed on the potential impact of proposed legislation; (6) develops legislative strategy for key policy and legislative initiatives; (7) provides technical assistance and advice relative to the effect that legislative initiatives/implementation would have on the IHS; provides support and collaborates with the OFA relative to IHS appropriations efforts; (8) directs the development of IHS briefing materials for Congressional hearings, testimony, and bill reports; (9) analyzes legislation for necessary action within the IHS; (10) develops appropriate legislative implementation plans; and (11) coordinates with IHS Headquarters (HQ) and Area Offices as appropriate to provide legislative leadership on issues raised from advocacy entities, and provides technical support to respond to requests from the public, including Tribal governments, Tribal organizations, and Indian community organizations regarding IHS legislative issues.

Executive Secretariat Staff (GAC4)

(1) Manages the processing of executive correspondence and related information to the IHS Director from Tribes and Tribal governments, Tribal organizations, UIOs, Federal departments and agencies, Congress and Congressional staff offices, attorneys, patients, schools, universities, employees, grantees, contractors, and the general public; (2) reviews and monitors correspondence received by the IHS Director and assigns reply or follow-up action to appropriate IHS HQ program offices and IHS Area Offices; (3) ensures the quality, responsiveness, clarity, and substance of IHS-generated correspondence prepared for the IHS Director's signature by coordinating the review of integrity and policy issues, and performing standard edits and revisions; (4) reviews and coordinates clearance of decision documents for the IHS Director's approval to ensure successful operations and policy-making within the Agency; (5) assists IHS officials as they prepare documents for the HHS Secretary's review, decision, and/or signature; (6) serves as the Agency's liaison with the HHS Office of the Secretary's Executive Secretariat on IHS program, policy, and special matters; (7) performs special writing assignments for the IHS Director; (8) maintains official records of the IHS Director's correspondence and conducts topic research of files, as needed; (9) oversees an electronic document handling system to assist in managing the timely processing of internal and external executive correspondence; (10) conducts training to promote conformance by IHS HQ and Area staff to the IHS Executive Correspondence Guidelines; (11) tracks reports required by Congress; and (12) manages the IHS review of non-IHS regulatory documents that impact the delivery of health services to Indians.

Public Affairs Staff (GAC5)

(1) Serves as the principal advisor for strategic planning on communications, media relations, and public affairs policy formulation and implementation; ensures IHS policy is consistent with directives from the HHS Assistant Secretary for Public Affairs; (2) provides leadership and advocacy to establish and implement policy for internal and external dissemination of Agency information intended for public release or employee and stakeholder information; (3) serves as the central office for technical guidance and assistance to IHS staff for the development of public affairs and media communication; (4) coordinates public affairs activities with other public and private sector organizations; (5) coordinates the clearance of IHS public relations activities, campaigns, and communications materials; (6) represents the IHS in discussions regarding policy and public affairs initiatives/implementation; (7) provides technical assistance and advice relative to the effect public affairs initiatives/implementation would have on the IHS; collaborates with the Division of Regulatory and Policy Coordination, for review and response to media requests received under the Freedom of Information Act, and ensures the security of IHS documents used in such responses that contain sensitive and/or confidential information; and (8) serves as the IHS liaison office for press and public affairs activities with HHS, IHS Area Offices, media and other external organizations and representatives.

P. Benjamin Smith
Deputy Director, Indian Health Service.

[FR Doc. 2025-00183 Filed 1-7-25; 8:45 am]

BILLING CODE 4166-14-P